DEPARTMENT OF HEALTH AND HUMAN SERVICES

Announcement of Intent To Establish the 2015 Dietary Guidelines Advisory Committee and Solicitation of Nominations for Appointment to the Committee Membership

AGENCY: U.S. Department of Health and Human Services, Office of the Assistant Secretary for Health; and U.S. Department of Agriculture, Food, Nutrition, and Consumer Services and Research, Education and Economics.

ACTION: Notice.

SUMMARY: The Department of Health and Human Services (HHS) is working jointly with the U.S. Department of Agriculture (USDA) to establish the 2015 Dietary Guidelines Advisory Committee (DGAC). It is planned for the Committee to be established in the beginning of calendar year 2013. This notice also will serve to announce that an invitation is being extended for nominations of individuals who are interested in being considered for appointment to the Committee.

DATES: Nominations must be submitted no later than close of business November 26, 2012.

ADDRESSES: Nominations may be submitted by email to DG2015Nominations@hhs.gov. This address can be accessed through the Internet at the following Web site address: www.dietaryguidelines.gov. Nominations also may be sent to: Richard D. Olson, M.D., M.P.H., Prevention Science Lead and Designated Federal Officer, 2015 DGAC; Office of Disease Prevention and Health Promotion, OASH; U.S. Department of Health and Human Services; 1101 Wootton Parkway, Suite LL100 Tower Building; Rockville, MD 20852; Telephone: (240) 453-8280; Fax: (240) 453-8281.

FOR FURTHER INFORMATION CONTACT: Designated Federal Officer, 2015 DGAC, Richard D. Olson and/or HHS Co-Executive Secretary, 2015 DGAC: Kellie (O'Connell) Casavale, Ph.D., RD; Office of Disease Prevention and Health Promotion, OASH/DHHS; 1101 Wootton Parkway, Suite LL100 Tower Building; Rockville, MD 20852: Telephone (240) 453-8280; Fax: (240) 453-8281. Lead USDA Co-Executive Secretary, Colette I. Rihane, M.S., R.D., Director, Nutrition Guidance and Analysis Division, Center for Nutrition Policy and Promotion; U.S. Department of Agriculture; 3101 Park Center Drive, Room 1034; Alexandria, VA 22302; Telephone: (703) 305-7600; Fax: (703) 305-3300. USDA Co-Executive Secretary, Shanthy A. Bowman, Ph.D.; Nutritionist, Food Surveys Research Group, Beltsville Human Nutrition Research Center, Agricultural Research Service, USDA; 10300 Baltimore Avenue, BARC-West Bldg 005, Room 125; Beltsville, MD 20705-2350; Telephone: 301-504-0619. Additional information about the 2015 DGAC is available on the Internet at www.dietaryguidelines.gov.

SUPPLEMENTARY INFORMATION: Authority and Purpose: Under Section 301 of the National Nutrition Monitoring and Related Research Act of 1990, the Secretaries of HHS and USDA are required to publish the Dietary Guidelines for Americans (hereinafter referred to as the Guidelines) at least every five years. The Guidelines were first published by HHS and USDA in 1980, with revisions in 1985, 1990, 1995, 2000, 2005, and 2010. The Guidelines contain nutrition and dietary information for the general public. Because of its focus on health promotion and risk reduction, the Guidelines form a basis for federal food and nutrition policy and education activities. The information and key recommendations of the Guidelines are based on the preponderance of scientific and medical knowledge which is current at the time.

Beginning with the 1985 edition, the Secretaries of HHS and USDA have established a DGAC to provide advice and make recommendations regarding the Guidelines, based on a thorough evaluation of recent scientific and applied literature. The DGAC is composed of experts in nutrition and health. The Committee is established as a federal advisory committee and is governed by the provisions of the Federal Advisory Committee Act (FACA), Public Law 92-463, as amended (5 U.S.C., App.). Formation of the 2015 DGAC is necessary and in the public interest.

The Committee is expected to begin meeting during the Spring/Summer of 2013; the Committee will meet, at a minimum, four times during the course of its operation. Pursuant to the FACA, all Committee meetings will be open to the public. The 2015 DGAC will be established to accomplish a single time-limited task. The Committee will develop a report of its recommendations that will be presented to the Secretaries of HHS and USDA. Upon delivery of its report to the Secretaries, the activities of the 2015 DGAC will be terminated.

For those who are interested in reviewing the 2010 edition of the DGAC report, it is available at www.dietaryguidelines.gov. A limited number of hard copies of the report are available upon request from HHS and USDA.

Structure: It is proposed that the 2015 DGAC will consist of up to 17 members; one or more members will be selected to serve as the Chair, Vice Chair, and/or Co-Chairs. Prospective members of the DGAC should be knowledgeable of current scientific research in human nutrition and chronic disease and be respected and published experts in their fields. The prospective members also should be familiar with the purpose, communication, and application of the Guidelines and have demonstrated interest in the public's health and well-being through research and/or educational endeavors. Expertise will be sought in specific specialty areas that may include, but are not limited to, cardiovascular disease; type 2 diabetes, overweight and obesity; osteoporosis; cancer; pediatrics; gerontology; maternal/gestational nutrition; epidemiology; general medicine; energy balance, which includes physical activity; nutrient bioavailability; nutrition biochemistry and physiology; food processing science, safety and technology; public health; nutrition education and behavior change; and/or nutrition-related systematic review methodology.

Nominations: Nominations, including self nominations, of individuals who have the above mentioned expertise and knowledge will be considered for appointment as members of the Committee. A nomination should include, at a minimum, the following for each nominee: (1) A letter of nomination that clearly states the name and affiliation of the nominee, the basis for the nomination (i.e., specific attributes which qualify the nominee to be considered for appointment as a member of the 2015 DGAC), and a statement from the nominee that he/she would be willing to serve as a member of the Committee, if selected; (2) the nominator's name, address, and daytime telephone number, and the address, telephone number, and email address of the individual being nominated; and (3) a current copy of the nominee's curriculum vitae or resume, which should be limited to no more than 10 pages.

Equal opportunity practices regarding membership appointments to the 2015 DGAC will be aligned with HHS and USDA policies. Every effort will be made to ensure that the Committee is a diverse group of individuals with representation from various geographic locations, racial and ethnic minorities, women, and persons with disabilities.

Individuals will be appointed to serve as members of the Committee to represent balanced viewpoints of the scientific evidence, not to represent the viewpoints of any specific group. Members of the 2015 DGAC will be classified as special Government employees (SGEs) during their term of appointment on the Committee, and as such are subject to the ethical standards of conduct for federal employees. Upon entering the position and annually throughout the term of appointment, members of the 2015 DGAC will be required to complete and submit a report of their financial holdings.

Dated: October 22, 2012.
Howard K. Koh,
Assistant Secretary for Health, U.S. Department of Health and Human Services.
Dated: October 16, 2012.
Kevin W. Concannon,
Under Secretary, Food, Nutrition, and Consumer Services, U.S. Department of Agriculture.
Dated: October 16, 2012.
Catherine E. Woteki,
Chief Scientist and Under Secretary Research, Education, and Economics, U.S. Department of Agriculture.

[FR Doc. 2012-26387 Filed 10-25-12; 8:45 am]

BILLING CODE 4150-32-P